DEPARTMENT OF COMMERCE

National Oceanic and Atmospheric Administration

[I.D. 032101B]

Mid-Atlantic Fishery Management Council; Public Meeting

AGENCY: National Marine Fisheries Service (NMFS), National Oceanic and Atmospheric Administration (NOAA), Commerce.

ACTION: Notice of public meeting.

SUMMARY: The Mid-Atlantic Fishery Management Council's (Council) Comprehensive Management Committee (CMC) will hold a public meeting.

DATES: The meeting will be held on Tuesday, April 10, 2001, from 10 a.m. until 5 p.m.

ADDRESSES: This meeting will be held at the Embassy Suites Hotel Philadelphia Airport, 9000 Bartram Avenue, Philadelphia, PA; (610) 561-1776.

Council address: Mid-Atlantic Fishery Management Council, 300 South New Street, Room 2115, Dover, DE 19904.

FOR FURTHER INFORMATION CONTACT: Daniel T. Furlong, Executive Director, Mid-Atlantic Fishery Management Council; (302) 674-2331, ext. 19.

SUPPLEMENTARY INFORMATION: The purpose of this meeting is to address the development of future committee activities and actions, and provide priority recommendations to the Council regarding its future activities and actions. For purposes of establishing Council priorities, the committee will review and discuss the following items:

1. Consider utility of ecosystem management;

2. Address implications of Marine Protected Areas (sea mapping data review);

3. Identify possible effort management scenarios;

4. Consider economic impacts of management measures (highest and best use of the resource);

5. Address managing a recovering fishery;

6. Analyze and redesign the fishery management infrastructure;

7. Address economic and social impacts of fishery management;

8. Achieve maximum harvest while minimizing impacts;

9. Achieve maximum harvest while using minimum fuel;

10. Manage harvest for the maximum economic benefit to the nation;

11. Develop a stable year-round infrastructure;

12. Resolve dilemma whereby fishery management can't support all traditional entities and/or communities;

13. Address utility of Individual Transferable Quota applications;

14. Consider conducting a management experiment whereby a selected number of boats fish under a particular format to test fundamental changes in management approaches;

15. Consider fishing as farming and manage activity accordingly;

16. Evaluate the extent and scope of the Mid-Atlantic fishery as to actual and potential capacity in terms of number of boats, number of permits, landings, etc.; and

17. Explore the notion of cumulative trip limits and associated impact on bycatch

Other issues and items that arise during this meeting can become part of the rating and ranking process that will ultimately be reduced to writing as a set of priorities to be recommended to the Council for its consideration and action.

Although other issues not contained in this agenda may come before this Council for discussion, in accordance with the Magnuson-Stevens Fishery Conservation and Management Act, those issues may not be the subject of formal Council action during this meeting. Council action will be restricted to those issues specifically identified in the agenda listed in this notice.

Special Accommodations

This meeting is physically accessible to people with disabilities. Requests for sign language interpretation or other auxiliary aids should be directed to Joanna Davis at the Council Office (see ADDRESSES) at least 5 days prior to the meeting date.

Dated: March 21, 2001.
Richard W. Surdi,
Acting Director, Office of Sustainable Fisheries, National Marine Fisheries Service.

[FR Doc. 01-7545 Filed 3-26-01; 8:45 am]

BILLING CODE 3510-22-S